FEDERAL MARITIME COMMISSION

Ocean Transportation Intermediary License Revocations and Terminations

The Commission gives notice that the following Ocean Transportation Intermediary licenses have been revoked or terminated for the reason indicated pursuant to section 19 of the Shipping Act of 1984 (46 U.S.C. 40101) effective on the date shown.

License No.: 001882N.

Name: New England Household Moving & Storage, Inc.

Address: 104 Bartzak Drive, Holliston, MA 01746

Date Revoked: March 5, 2014.

Reason: Voluntary surrender of license.

License No.: 2696F.

Name: Max International Forwarders Corp.

Address: 1530 NW 98th Court, Miami, FL 33172.

Date Revoked: March 2, 2014.

Reason: Failed to maintain a valid bond.

License No.: 3664F.

Name: Davis Freight Systems, Inc.

Address: 7722 NW 56th Street, P.O. Box 526706, Miami, FL 33152.

Date Revoked: March 9, 2014.

Reason: Failed to maintain a valid bond.

License No.: 4338F.

Name: Nick Rendon III International Inc.

Address: 139 Mitchell Avenue, Suite 216, South San Francisco, CA 94080.

Date Revoked: March 2, 2014.

Reason: Failed to maintain a valid bond.

License No.: 014713N.

Name: Seagull Container Line Inc.

Address: 167-25 Rockaway Boulevard, Jamaica, NY 11434.

Date Revoked: March 13, 2014.

Reason: Failed to maintain a valid bond.

License No.: 014824NF.

Name: Crescent Line Inc. dba Globe Express Services.

Address: 535 Regal Row, Dallas, TX 75247.

Date Revoked: March 20, 2014.

Reason: Voluntary surrender of license.

License No.: 016568N.

Name: 5K Logistics, Inc. dba Haul of Fame Lines.

Address: 1090 York Road, Warminster, PA 18974.

Date Revoked: March 13, 2014.

Reason: Failed to maintain a valid bond.

License No.: 017374N.

Name: Daystar Line, Inc.

Address: 520 West Country Club Drive, Unit J, Second Floor, Egg Harbor City, NJ 08215.

Date Revoked: March 12, 2014.

Reason: Failed to maintain a valid bond.

License No.: 017859N.

Name: Top Line Logistics Inc.

Address: 150-30 132nd Avenue, Suite 208, Jamaica, NY 11413.

Date Revoked: March 19, 2014.

Reason: Failed to maintain a valid bond.

License No.: 018182N.

Name: Sea-Line-Cargo, Inc.

Address: 736 Route 17 North, Rear Office DRD, Paramus, NJ 07652.

Date Revoked: April 1, 2014.

Reason: Voluntary surrender of license.

License No.: 018714N.

Name: La World Express Inc. dba Guangyi USA.

Address: 23048 Maple Avenue, Torrance, CA 90505.

Date Revoked: March 12, 2014.

Reason: Failed to maintain a valid bond.

License No.: 018824F.

Name: Christopher Onyekwere dba Aqua Maritime Services.

Address: 3639 Campfield Court, Katy, TX 77449.

Date Revoked: March 23, 2014.

Reason: Failed to maintain a valid bond.

License No.: 018867N.

Name: Oceanika Express, Inc.

Address: 8211 NW 68th Street, Miami, FL 33166.

Date Revoked: March 16, 2014.

Reason: Failed to maintain a valid bond.

License No.: 018904N.

Name: K & K Express, LLC dba K2 Logistics.

Address: 1521 Greens Road, Suite 300, Houston, TX 77032.

Date Revoked: March 2, 2014.

Reason: Failed to maintain a valid bond.

License No.: 018930F.

Name: Vanik International, Inc.

Address: 6301 South Cass Avenue, Suite 200, Westmont, IL 60559.

Date Revoked: March 21, 2014.

Reason: Failed to maintain a valid bond.

License No.: 020391NF.

Name: Fresh Logistics, LLC.

Address: 4300 Church Street, Sauget, IL 62207.

Date Revoked: March 15, 2014.

Reason: Failed to maintain valid bonds.

License No.: 021687N.

Name: Confianca Moving, Inc. dba CWM Logistics.

Address: 14452 South Avalon Blvd., Unit E, Gardena, CA 90248.

Date Revoked: March 5, 2014.

Reason: Failed to maintain a valid bond.

License No.: 022950N.

Name: Realco Transportation Group USA, Inc.

Address: 9420 Telestar Avenue, Suite 200, El Monte, CA 91731-2902.

Date Revoked: March 19, 2014.

Reason: Voluntary surrender of license.

License No.: 023062F.

Name: A & M Ocean Machinery, Inc.

Address: 9725 Fontainebleau Blvd., Suite 103, Miami, FL 33172.

Date Revoked: March 7, 2014.

Reason: Failed to maintain a valid bond.

License No.: 023373N.

Name: African Mediterranean Lines Inc.

Address: AMCI Bldg. Jezine Street, Saida, Lebanon.

Date Revoked: March 25, 2014.

Reason: Voluntary surrender of license.

License No.: 023730F.

Name: Webgistix Corporation.

Address: 127 E. Warm Springs Road, Suite A, Las Vegas, NV 89119.

Date Revoked: March 7, 2014.

Reason: Failed to maintain a valid bond.

License No.: 024099F.

Name: Brookfield Relocation Inc.

Address: Two Corporate Drive, Suite 440, Shelton, CT 06484.

Date Revoked: March 21, 2014.

Reason: Voluntary surrender of license.

License No.: 024170N.

Name: Contract Logistics, LLC dba Smart Lines Worldwide.

Address: 4911 N. Portland Avenue, Suite 200, Oklahoma City, OK 73112.

Date Revoked: March 21, 2014.

Reason: Failed to maintain a valid bond.

License No.: 024383NF.

Name: AFC LS, LLC.

Address: 10752 Deerwood Park Blvd. S., Waterview II, Suite 100, Jacksonville, FL 32256.

Date Revoked: March 20, 2014.

Reason: Voluntary surrender of license.

Sandra L. Kusumoto,
Director, Bureau of Certification and Licensing.

[FR Doc. 2014-09098 Filed 4-21-14; 8:45 am]

BILLING CODE 6730-01-P